DEPARTMENT OF ENERGY

Federal Energy Regulatory Commission

Combined Notice of Filings

June 21, 2017.

Take notice that the Commission has received the following Natural Gas Pipeline Rate and Refund Report filings:

Filings Instituting Proceedings

Docket Numbers: RP17-832-000.

Applicants: Rockies Express Pipeline LLC.

Description: Rockies Express Pipeline LLC submits tariff filing per 154.204: Neg Rate 2017-06-20 Ascent to be effective 6/20/2017.

Filed Date: 06/16/2017.

Accession Number: 20170616-5092.

Comment Date: 5:00 p.m. Eastern Time on Wednesday, June 28, 2017.

Docket Numbers: RP17-833-000.

Applicants: Tennessee Gas Pipeline Company, L.L.C.

Description: Tennessee Gas Pipeline Company, L.L.C. submits tariff filing per 154.204: Volume No 2. Neg Rate Agmt—Alta Energy Marketing LLC; MMGS name to Mitsui to be effective 7/1/2017.

Filed Date: 06/16/2017.

Accession Number: 20170616-5166.

Comment Date: 5:00 p.m. Eastern Time on Wednesday, June 28, 2017.

Docket Numbers: RP17-779-001.

Applicants: Florida Southeast Connection, LLC.

Description: Florida Southeast Connection, LLC submits tariff filing per 154.205(b): Filed Agreements to be effective 7/1/2017.

Filed Date: 06/19/2017.

Accession Number: 20170619-5151.

Comment Date: 5:00 p.m. Eastern Time on Monday, June 26, 2017.

Docket Numbers: RP17-834-000.

Applicants: El Paso Natural Gas Company, L.L.C.

Description: El Paso Natural Gas Company, L.L.C. submits tariff filing per 154.601: Negotiated Rate Agreement Update (Pioneer July-Sept 2017) to be effective 7/1/2017.

Filed Date: 06/20/2017.

Accession Number: 20170620-5140.

Comment Date: 5:00 p.m. Eastern Time on Monday, July 3, 2017.

Docket Numbers: RP17-835-000.

Applicants: Constellation Energy Services, Inc., Constellation Energy Services—Natural,CNE Gas Supply, LLC.

Description: Petition for Temporary Waivers of Capacity Release Regulations and Policies of Constellation Energy Services, Inc., et al.

Filed Date: 06/20/2017.

Accession Number: 20170620-5145.

Comment Date: 5:00 p.m. Eastern Time on Tuesday, June 27, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2017-13299 Filed 6-23-17; 8:45 am]

BILLING CODE 6717-01-P